COMMITTEE FOR PURCHASE FROM PEOPLE WHO ARE BLIND OR SEVERELY DISABLED

Procurement List; Proposed Additions and Deletion

AGENCY: Committee for Purchase from People Who Are Blind or Severely Disabled.

ACTION: Proposed additions to and deletion from procurement list.

SUMMARY: The Committee is proposing to add to the Procurement List products and services to be furnished by nonprofit agencies employing persons who are blind or have other severe disabilities, and to delete products previously furnished by such agencies.

Comments Must Be Received on or Before: December 17, 2006.

ADDRESSES: Committee for Purchase From People Who Are Blind or Severely Disabled, 1421 Jefferson Davis Highway, Suite 10800, Arlington, VA 22202.

FOR FURTHER INFORMATION OR TO SUBMIT COMMENTS CONTACT: Sheryl D. Kennerly, Telephone: (703) 603-7740, Fax: (703) 603-0655, or e-mail Skennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

Product/NSN: Flashlight, Olive Drab, 6230-00-264-8261.

NPA: Blue Island Citizens for Persons with Developmental Disabilities, Inc., Blue Island, Illinois.

Contracting Activity: Defense Supply Center Philadelphia, Philadelphia, Pennsylvania.

Services

Service Type/Location: Janitorial Services, Agricultural Research Service, 1561 Lindig Avenue, St. Paul, Minnesota.

NPA: AccessAbility, Inc., Minneapolis, Minnesota.

Contracting Activity: Agricultural Research Service, St. Paul, Minnesota.

Service Type/Location: Laundry Service, Aberdeen Proving Ground, Aberdeen, Maryland.

NPA: Jeanne Bussard Center, Inc., Frederick, Maryland.

Contracting Activity: Army Contracting Agency, Aberdeen Proving Ground, Maryland.

Service Type/Location: Packaging Service, Hurlburt Field AFB, 304 Terry Avenue, Hurlburt Field AFB, Florida.

NPA: Lakeview Center, Inc., Pensacola, Florida.

Contracting Activity: AF-Hurlburt Field AFB, Hurlburt Field, Florida.

Service Type/Location: Switchboard Operation, VA Medical Center-Birmingham, 7100 South 19th Street, Birmingham, Alabama.

NPA: Alabama Goodwill Industries, Inc., Birmingham, Alabama.

Contracting Activity: VA Medical Center, Augusta, Georgia.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the product to the Government.

3. There are no known regulatory alternatives which would accomplish the objectives of the Javits-Wagner-O'Day Act (41 U.S.C. 46-48c) in connection with the product proposed for deletion from the Procurement List.

End of Certification

The following product are proposed for deletion from the Procurement List:

Product

Product/NSN: Cross “Solo” Pen and Refill, 7510-01-451-9182, 7510-01-451-9185, 7510-01-451-9187, 7510-01-425-6802.

NPA: In-Sight, Warwick, Rhode Island.

Contracting Activity: Office Supplies & Paper Products Acquisition Center, New York, NY.

G. John Heyer,
General Counsel.

[FR Doc. E6-19466 Filed 11-16-06; 8:45 am]

BILLING CODE 6353-01-P